FEDERAL RESERVE SYSTEM

Notice of Proposals to Engage in Permissible Nonbanking Activities or to Acquire Companies that are Engaged in Permissible Nonbanking Activities; Correction

This notice corrects a notice (FR Doc. 2010-22438) published on page 54884 of the issue for Thursday, September 9, 2010.

Under the Federal Reserve Bank of Dallas, the entry for Mason National Bancshares, Mason, Texas, is revised to read as follows:

A. Federal Reserve Bank of Dallas (E. Ann Worthy, Vice President) 2200 North Pearl Street, Dallas, Texas 75201-2272:

1. Mason National Bancshares, Mason, Texas, to engage de novo in lending activities, pursuant to section 225.28(b)(1) of Regulation Y.

Comments on this application must be received by September 24, 2010.

Board of Governors of the Federal Reserve System, September 10, 2010.
Jennifer J. Johnson,
Secretary of the Board.

[FR Doc. 2010-22990 Filed 9-14-10; 8:45 am]

BILLING CODE 6210-01-S